DEPARTMENT OF COMMERCE

International Trade Administration

[A-357-812]

Honey from Argentina: Initiation of New Shipper Antidumping Duty Review

AGENCY: Import Administration, International Trade Administration, Department of Commerce.

ACTION: Initiation of New Shipper Antidumping Duty Review.

EFFECTIVE DATE: January 26, 2006.

FOR FURTHER INFORMATION CONTACT: David Cordell or Robert James, AD/CVD Operations, Office 7, Import Administration, International Trade Administration, U.S. Department of Commerce, 14th Street and Constitution Avenue, NW, Washington, DC 20230; telephone: (202) 482-0408 or (202) 482-0469, respectively.

SUPPLEMENTARY INFORMATION:

Background

The Department received a timely request from Patagonik S.A. (Patagonik), in accordance with 19 CFR 351.214(c), for a new shipper review of the antidumping duty order on honey from Argentina. See Notice of Antidumping Duty Order: Honey from Argentina, 66 FR 63672 (December 10, 2001). Patagonik identified itself as the exporter of subject merchandise produced by its supplier Colmenares Santa Rosa s.r.l.

As required by 19 CFR 351.214(b)(2)(i),(ii), and (iii)(A), Patagonik certified it did not export honey to the United States during the period of investigation (POI), and that it has never been affiliated with any exporter or producer which exported honey during the POI. As required by 19 CFR 351.214(b)(2)(ii)(B), Patagonik's supplier, Colmenares Santa Rosa s.r.l., certified that it did not export the subject merchandise to the United States during the POI. Our inquires and Customs run queries with U.S. Customs and Border Protection (CBP) show that the shipment entered the United States shortly after the anniversary month.

Under section 351.214(f)(2)(ii) of the Department's regulations, when the sale of the subject merchandise occurs within the period of review (POR), but the entry occurs after the normal POR, the POR may be extended unless it would be likely to prevent the completion of the review within the time limits set by the Department's regulations. The preamble to the Department's regulations states that both the entry and the sale should occur during the POR, and that under “appropriate” circumstances the Department has the flexibility to extend the POR. See Antidumping Duties; Countervailing Duties; Final Rule, 62 FR 27296, 27319, 27320 (May 19, 1997). In this instance, Patagonik's shipment entered in the month following the end of the POR. The Department does not find that this delay prevents the completion of the review within the time limits set by the Department's regulations. Accordingly, we are extending the POR by one month to capture both the sale and subsequent entry during the New Shipper POR.

Scope

The merchandise under review is honey from the Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90, and 2106.90.99 of the Harmonized Tariff Schedule of the United States (HTSUS). Although the HTSUS subheading is provided for convenience and customs purposes, the written description of the merchandise under review is dispositive.

Initiation of Review

In accordance with section 751(a)(2)(B) of the Tariff Act of 1930 (the Tariff Act), as amended, and 19 CFR 351.214(d)(1), and based on information on the record, we are initiating a new shipper review for Patagonik. See Memorandum to the File through Richard O. Weible, “New Shipper Review Initiation Checklist”, dated January 31, 2006. We intend to issue the preliminary results of this review not later than 180 days after the date on which this review is initiated, and the final results of this review within 90 days after the date on which the preliminary results are issued.

Pursuant to 19 CFR 351.214(g)(1)(i)(A), the POR for a new shipper review initiated in the month immediately following the anniversary month will be the 12-month period immediately preceding the anniversary month. Under section 351.214(f)(2)(ii) of the Department's regulations, when the sale of the subject merchandise occurs within the POR, but the entry occurs after the normal POR, the POR may be extended unless it would be likely to prevent the completion of the review within the time limits set by the Department's regulations. Therefore, the POR for this new shipper review is December 1, 2004, through December 31, 2005. This review will cover sales by Patagonik of honey produced by Colmenares Santa Rosa s.r.l.

In accordance with section 751(a)(2)(B)(iii) of the Tariff Act, and 19 CFR 351.214(e), we will instruct CBP to allow, at the option of the importer, the posting, until the completion of the review, of a single entry bond or security in lieu of a cash deposit for certain entries of the merchandise exported by the above-listed companies, i.e, Patagonik as the exporter and Colmenares Santa Rosa S.R.L as the producer. Thus, we will instruct CBP to limit the bonding option only to entries of subject merchandise exported by Patagonik and produced by Colmenares Santa Rosa S.R.L.

Interested parties seeking access to proprietary information in this new shipper review should submit applications for disclosure under administrative protective orders in accordance with 19 CFR 351.305 and 351.306. This initiation and notice are in accordance with section 751(a) of the Tariff Act and 19 CFR 351.214(d).

Dated: January 20, 2006.
Stephen J. Claeys,
Deputy Assistant Secretary for Import Administration.

[FR Doc. E6-990 Filed 1-25-06; 8:45 am]

BILLING CODE 3510-DS-S